NATIONAL COUNCIL ON DISABILITY

Sunshine Act Meetings

TIME AND DATES: The Members of the National Council on Disability (NCD) will meet by phone Monday, January 27, 2020, 10:00 a.m.-12:00 p.m., ET.

Interested parties may join the meeting in listen-only capacity.

Call-In Number: 800-353-6461; Passcode: 1568366, Host Name: Neil Romano.

MATTERS TO BE CONSIDERED: The Council conduct a business meeting, to include approving the budget for fiscal year 2020 and vote on policy priorities for the fiscal year. Following agency updates, Mary Lamielle, Executive Director National Center for Environmental Health Strategies, Inc. is invited to provide a presentation on environmental intolerances to protect the public health and improve the lives of people injured or disabled by chemical and environmental exposures.

Agenda: The times provided below are approximations for when each agenda item is anticipated to be discussed (all times Eastern):

Monday, January 27, 2020

10:00 a.m.-10:10 a.m. Welcome and call to order

Roll call

Call for vote on acceptance of agenda

Call for vote of August 2019 Council Meeting minutes

10:10 a.m.-11:10 a.m.

Chairman's report

Executive report

Financial report and call for vote on fiscal year 2020 budget

Policy report and call for vote on fiscal year 2020 policy priorities

Legislative affairs report

11:10 a.m.-11:40 a.m. Presentation on environmental intolerances to protect the public health and improve the lives of people injured or disabled by chemical and environmental exposures

11:40 a.m.-12:00 p.m. Unfinished and new business

12:00 p.m. Adjourn

CONTACT PERSON FOR MORE INFORMATION: Anne Sommers, NCD, 1331 F Street NW, Suite 850, Washington, DC 20004; 202-272-2004 (V), 202-272-2022 (Fax).

Accommodations: A CART streamtext link has been arranged for this meeting. The web link to access CART on Monday, January 27, 2020 is: http://www.streamtext.net/player?event=NCD-TELECONFERENCE

Dated: January 8, 2020.
Sharon M. Lisa Grubb,
Executive Director and CEO.

[FR Doc. 2020-00340 Filed 1-8-20; 4:15 pm]

BILLING CODE 8421-02-P